ENVIRONMENTAL PROTECTION AGENCY

[FRL-12554-01-R3]

Clean Air Act Operating Permit Program; Order on Petition for Objection to State Operating Permit for AdvanSix Resins and Chemicals LLC, Hopewell Plant

AGENCY: Environmental Protection Agency (EPA).

ACTION: Notice of final order on petition.

SUMMARY: The Environmental Protection Agency (EPA) Administrator signed an order dated December 16, 2024 granting in part and denying in part a petition dated July 19, 2024 from the Chesapeake Bay Foundation, Mothers Out Front, Sierra Club, Falls of the James Group, and Virginia Interfaith Power & Light. The petition requested that the EPA object to a Clean Air Act (CAA) title V operating permit issued by the Virginia Department of Environmental Quality (VADEQ) to AdvanSix Resins and Chemicals LLC, Hopewell Plant, located in the City of Hopewell, Prince George County, Virginia.

FOR FURTHER INFORMATION CONTACT: Yongtian He, Permits Branch, Air & Radiation Division, U.S. Environmental Protection Agency, Region III, 1600 John F. Kennedy Boulevard, Philadelphia, Pennsylvania 19103. The telephone number is (215) 814-2339. Mr. He can also be reached via electronic mail at he.yongtian@epa.gov. The final order and petition are available electronically at: www.epa.gov/title-v-operating-permits/title-v-petition-database.

SUPPLEMENTARY INFORMATION: The EPA received a petition from the Chesapeake Bay Foundation, Mothers Out Front, Sierra Club, Falls of the James Group, and Virginia Interfaith Power & Light dated July 19, 2024, requesting that the EPA object to the issuance of operating permit no. PRO 50232, issued by VADEQ to AdvanSix Resins and Chemicals LLC, Hopewell Plant in the City of Hopewell, Prince George County, Virginia.

On December 16, 2024, the EPA Administrator issued an order granting in part and denying in part the petition. The order itself explains the bases for the EPA's decision.

Sections 307(b) and 505(b)(2) of the CAA provide that a petitioner may request judicial review of those portions of an order that deny issues in a petition. Any petition for review shall be filed in the United States Court of Appeals for the appropriate circuit no later than May 12, 2025.

Cristina Fernández,
Air & Radiation Division Director, Region III.

[FR Doc. 2025-04038 Filed 3-12-25; 8:45 am]

BILLING CODE 6560-50-P